DEPARTMENT OF VETERANS AFFAIRS

Veterans' Rural Health Advisory Committee; Notice of Meeting

The Department of Veterans Affairs (VA) gives notice under the Federal Advisory Committee Act, 5 U.S.C. App. 2, that the Veterans Rural Health Advisory Committee will meet on November 18-19, 2014, in Room 104, at 1100 First Street NE., Washington, DC from 8:30 a.m. to 5 p.m. each day. The meeting is open to the public.

The purpose of the Committee is to advise the Secretary of Veterans Affairs on health care issues affecting enrolled Veterans residing in rural areas. The Committee examines programs and policies that impact the provision of VA health care to enrolled Veterans residing in rural areas, and discusses ways to improve and enhance VA services for these Veterans.

The agenda will include updates from the Committee Chair and the Director of the Veterans Health Administration (VHA) Office of Rural Health (ORH), as well as presentations on general health care access and quality.

Public comments will be received at 4:30 p.m. on November 19, 2014. Interested parties in attending the meeting should contact Mr. Elmer D. Clark, by mail at ORH, 90 K Street NE., Room 700C, Washington, DC 20002, or via email at Elmer.Clark2@va.gov or by fax (202) 632-8609. Individuals scheduled to speak are invited to submit a 1-2 page summary of their comments for inclusion in the official meeting record.

Dated: October 27, 2014.
Rebecca Schiller,
Committee Management Officer.

[FR Doc. 2014-25801 Filed 10-29-14; 8:45 am]

BILLING CODE 8320-01-P